DEPARTMENT OF JUSTICE

Drug Enforcement Administration

21 CFR Parts 1300, 1304, 1306, and 1311

[Docket No. DEA-218P]

RIN 1117-AA61

Electronic Prescriptions for Controlled Substances

Correction

In proposed rule document E8-14405 beginning on page 36722 in the issue of Friday, June 27, 2008, make the following correction:

On page 36766, in Table 18, in the third column, in the first entry, “$167,70” should read “$167,270”.

[FR Doc. Z8-14405 Filed 7-11-08; 8:45 am]

BILLING CODE 1505-01-D